SECURITIES AND EXCHANGE COMMISSION

[File No. 500-1]

In the Matter of Arrin Corporation, Gundaker/Jordan American Holdings (a/k/a Jordan American Holdings, Inc.), Liberty Petroleum Corporation, Mikojo Incorporated, Royal Invest International Corp., and San Joaquin Bancorp; Order of Suspension of Trading

July 8, 2015.

It appears to the Securities and Exchange Commission that there is a lack of current and accurate information concerning the securities of Arrin Corporation (CIK No. 1427433) (“ARRI” ¹), a revoked Nevada corporation with its principal place of business in Bradenton, Florida, with stock quoted on OTC Link (previously, “Pink Sheets”) operated by OTC Markets Group Inc. (“OTC Link”) because it has not filed any periodic reports since the period ended March 31, 2011. On June 26, 2013, the Division of Corporation Finance (“Corporation Finance”) sent a delinquency letter to ARRI requesting compliance with its periodic reporting obligations at the address shown in its then-most recent filing with the Commission, but ARRI did not receive the delinquency letter due to its failure to maintain a valid address on file with the Commission as required by Commission rules (Rule 301 of Regulation S-T, 17 CFR 232.301 and Section 5.4 of the EDGAR Filer Manual).

¹ The short form of each issuer's name is also its ticker symbol.

It appears to the Securities and Exchange Commission that there is a lack of current and accurate information concerning the securities of Gundaker/Jordan American Holdings, Inc. (a/k/a Jordan American Holdings, Inc.) (CIK No. 855663) (“JAHI”), a Florida corporation with its principal place of business in Excello, Missouri, with stock quoted on OTC Link, because it has not filed any periodic reports since the period ended September 30, 2005. On March 19, 2015, Corporation Finance sent a delinquency letter to JAHI requesting compliance with its periodic reporting obligations at the address shown in its then-most recent filing with the Commission, but JAHI did not receive the delinquency letter due to its failure to maintain a valid address on file with the Commission as required by Commission rules (Rule 301 of Regulation S-T, 17 CFR 232.301 and Section 5.4 of the EDGAR Filer Manual).

It appears to the Securities and Exchange Commission that there is a lack of current and accurate information concerning the securities of Liberty Petroleum Corporation (CIK No. 59270) (“LBPE”), a Delaware corporation with its principal place of business in New York, New York, with stock quoted on OTC Link, because it has not filed any periodic reports since the period ended June 30, 1987. On August 24, 2012, Corporation Finance sent a delinquency letter to LBPE requesting compliance with its periodic reporting obligations at the address shown in its then-most recent filing with the Commission, but LBPE did not receive the delinquency letter due to its failure to maintain a valid address on file with the Commission as required by Commission rules (Rule 301 of Regulation S-T, 17 CFR 232.301 and Section 5.4 of the EDGAR Filer Manual).

It appears to the Securities and Exchange Commission that there is a lack of current and accurate information concerning the securities of Mikojo Incorporated (CIK No. 1411085) (“MKJI”), a void Delaware corporation with its principal place of business in Foster City, California, with stock quoted on OTC Link, because it has not filed any periodic reports since the period ended March 31, 2011. On April 29, 2013, Corporation Finance sent a delinquency letter to MKJI requesting compliance with its periodic reporting obligations at the address shown in its then-most recent filing with the Commission, but MKJI did not receive the delinquency letter due to its failure to maintain a valid address on file with the Commission as required by Commission rules (Rule 301 of Regulation S-T, 17 CFR 232.301 and Section 5.4 of the EDGAR Filer Manual).

It appears to the Securities and Exchange Commission that there is a lack of current and accurate information concerning the securities of Royal Invest International Corp. (CIK No. 1079574) (“RIIC”), a void Delaware corporation with its principal place of business in Westport, Connecticut, with stock quoted on OTC Link because it has not filed any periodic reports since the period ended September 30, 2010. On June 26, 2013, Corporation Finance sent a delinquency letter to RIIC requesting compliance with its periodic reporting obligations at the address shown in its then-most recent filing with the Commission, but RIIC did not receive the delinquency letter due to its failure to maintain a valid address on file with the Commission as required by Commission rules (Rule 301 of Regulation S-T, 17 CFR 232.301 and Section 5.4 of the EDGAR Filer Manual).

It appears to the Securities and Exchange Commission that there is a lack of current and accurate information concerning the securities of San Joaquin Bancorp (CIK No. 1368883) (“SJQU”), a suspended California corporation with its principal place of business in Bakersfield, California, with stock quoted on OTC Link because it has not filed any periodic reports since the period ended June 30, 2009. On June 26, 2013, Corporation Finance sent a delinquency letter to SJQU requesting compliance with its periodic reporting obligations at the address shown in its then-most recent filing with the Commission, but SJQU did not receive the delinquency letter due to its failure to maintain a valid address on file with the Commission as required by Commission rules (Rule 301 of Regulation S-T, 17 CFR 232.301 and Section 5.4 of the EDGAR Filer Manual).

The Commission is of the opinion that the public interest and the protection of investors require a suspension of trading in the securities of the above-listed companies. Therefore, it is ordered, pursuant to Section 12(k) of the Securities Exchange Act of 1934, that trading in the securities of the above-listed companies is suspended for the period from 9:30 a.m. EDT on July 8, 2015, through 11:59 p.m. EDT on July 21, 2015.

By the Commission.
Jill M. Peterson,
Assistant Secretary.

[FR Doc. 2015-17014 Filed 7-8-15; 11:15 am]

BILLING CODE 8011-01-P